DEPARTMENT OF ENERGY

National Nuclear Security Administration

Notice of Availability of Draft Environmental Impact Statement for Plutonium Pit Production at the Savannah River Site in South Carolina and Announcement of Public Hearing

AGENCY: National Nuclear Security Administration, Department of Energy.

ACTION: Notice of availability and public hearing.

SUMMARY: The National Nuclear Security Administration (NNSA), a semi-autonomous agency within the United States (U.S.) Department of Energy (DOE), announces the availability of a Draft Environmental Impact Statement for Plutonium Pit Production at the Savannah River Site in South Carolina (SRS Pit Production EIS) (DOE/EIS-0541). NNSA is also announcing a 45-day public comment period and one public hearing to receive comments on the Draft EIS. NNSA prepared the Draft EIS to evaluate the potential environmental impacts of producing a minimum of 50 war reserve pits per year at SRS and developing the ability to implement a short-term surge capacity to enable NNSA to meet the requirements of producing pits at a rate of not less than 80 war reserve pits per year beginning during 2030 for the nuclear weapons stockpile.

DATES: NNSA invites Federal and state agencies, state and local governments, Native American tribes, industry, other organizations, and members of the public to review and submit comments on the Draft SRS Pit Production EIS through May 18, 2020. NNSA is planning to hold one public hearing on the Draft EIS as follows:

In light of recent public health concerns, NNSA will be hosting an internet-based, virtual public hearing in place of an in-person meeting. The date of the hearing will be provided in a future notice posted on the following website: https://www.energy.gov/nnsa/nnsa-nepa-reading-room. NNSA will hold the hearing no earlier than 15 days from the posting of the notice.

ADDRESSES: Written and oral comments will be given equal weight and NNSA will consider all comments received or postmarked by the end of the comment period in preparing the Final EIS. Comments received or postmarked after the comment period will be considered to the extent practicable. Written comments on the Draft EIS or requests for information related to the Draft EIS should be sent to Ms. Jennifer Nelson, NEPA Compliance Officer, National Nuclear Security Administration, Savannah River Field Office, P.O. Box A, Aiken, SC 29802; or sent by email to NEPA-SRS@srs.gov. Before including your address, phone number, email address, or other personally identifiable information in your comment, please be advised that your entire comment—including your personally identifiable information—may be made publicly available. If you wish for NNSA to withhold your name and/or other personally identifiable information, please state this prominently at the beginning of your comment. You may also submit comments anonymously.

The Draft SRS Pit Production EIS is available on the internet at: https://www.energy.gov/nnsa/nnsa-nepa-reading-room and https://www.energy.gov/nepa/listings/latest-documents-and-notices.

Information related to the online public hearing, including internet and telephone access details, and instructions on how to participate will be available at the following website: https://www.energy.gov/nnsa/nnsa-nepa-reading-room and announced in local media outlets.

FOR FURTHER INFORMATION CONTACT: For further information about this Notice, please contact Ms. Jennifer Nelson, NEPA Compliance Officer, National Nuclear Security Administration Savannah River Field Office, P.O. Box A, Aiken, SC 29802; email: NEPA-SRS@srs.gov.

SUPPLEMENTARY INFORMATION: National security policies require DOE, through NNSA, to maintain the United States' nuclear weapons stockpile, as well as the nation's core competencies in nuclear weapons. NNSA has the mission to maintain and enhance the safety, security, and effectiveness of the nuclear weapons stockpile. Plutonium pits are critical components of every nuclear weapon, with nearly all current stockpile pits having been produced from 1978-1989. Today, the United States' capability to produce plutonium pits is limited.

NNSA's pit production mission was emphasized as a national security imperative by the 2018 Nuclear Posture Review, issued in February 2018 by the Office of the Secretary of Defense, and subsequent congressional statements of the policy of the United States. The 2018 Nuclear Posture Review announced that the United States will pursue initiatives to ensure the necessary capability, capacity, and responsiveness of the nuclear weapons infrastructure and the needed skill of the workforce, including providing the enduring capability and capacity to produce no fewer than 80 pits per year by 2030. The 2018 Nuclear Posture Review concludes that the United States must have sufficient research, design, development, and production capacity to support the sustainment of its nuclear forces. Additionally, in Section 3116 of the National Defense Authorization Act (NDAA) for Fiscal Year (FY) 2020, Congress required NNSA to produce 80 plutonium pits per year beginning during 2030.

To that end, the Under Secretary of Defense for Acquisition and Sustainment and Under Secretary for Nuclear Security and Administrator of the NNSA issued a Joint Statement on May 10, 2018, identifying their recommended alternative to meet the pit production requirement based on the completion of an Analysis of Alternatives, an Engineering Assessment, and a Workforce Analysis. To achieve the nation's requirement of producing no fewer than 80 pits per year beginning during 2030, NNSA has proposed to repurpose the Mixed-Oxide Fuel Fabrication Facility (MFFF) at SRS to produce plutonium pits while also relying upon pit production activities at the Los Alamos National Laboratory (LANL). This two-pronged approach—with a minimum of 50 pits per year produced at SRS and a minimum of 30 pits per year at LANL—is considered the best way to manage the cost, schedule, and risk of such a vital undertaking. This approach improves the resiliency, flexibility, and redundancy of our Nuclear Security Enterprise by reducing reliance on a single production site.

The SRS Pit Production EIS is an important element of the overall NEPA strategy related to fulfilling national requirements for pit production, which NNSA announced on June 10, 2019 (84 FR 26849). In the Draft EIS, NNSA evaluates the potential impacts to the environment and human health from the following alternatives: (1) Proposed Action to repurpose MFFF into the Savannah River Plutonium Processing Facility (SRPPF) to produce a minimum of 50 pits per year; and (2) No Action Alternative. The Proposed Action to construct and operate the SRPPF to produce a minimum of 50 pits per year includes, but is not limited to: Reconfiguration (including disassembly and removal of equipment and utility commodities) of the MFFF; installation of equipment necessary for activities associated with pit production before disassembly/metal preparation, pit assembly, machining, aqueous processing, foundry operations, material characterization, and analytical chemistry operations for certification); constructing and repurposing other facilities surrounding the SRPPF for support activities (e.g., waste handling, training, office space, roads, storage, and parking); security and nuclear safety upgrades to support pit production; providing reliable utilities and infrastructure required for pit production; and hiring and training necessary workforce to ensure the safe, secure, reliable, and responsive capability for pit production at SRS. Under the No-Action Alternative, the existing MFFF would remain unused and NNSA would utilize the capabilities at LANL to meet the Nation's long-term needs for pit manufacturing.

Following this public comment period, and after consideration of comments received, NNSA will prepare a Final SRS Pit Production EIS. NNSA will announce the availability of the Final EIS in the Federal Register and local media outlets. If warranted, NNSA will issue a record of decision (ROD) no sooner than 30 days after publication by the Environmental Protection Agency of a Notice of Availability of the Final EIS.

Signed in Washington, DC, this 16th day of March 2020, for the United States Department of Energy.
Lisa E. Gordon-Hagerty,
Under Secretary for Nuclear Security, Administrator, NNSA.

[FR Doc. 2020-06557 Filed 4-2-20; 8:45 am]

BILLING CODE 6450-01-P